DEPARTMENT OF TRANSPORTATION

Federal Highway Administration

[Docket No. FHWA-2024-0045]

Agency Information Collection Activities: Request for Comments for a New Information Collection

AGENCY: Federal Highway Administration (FHWA), DOT.

ACTION: Notice and request for comments.

SUMMARY: The FHWA invites public comments about our intention to request the Office of Management and Budget's (OMB) approval for a new information collection, which is summarized below under SUPPLEMENTARY INFORMATION. We are required to publish this notice in the Federal Register by the Paperwork Reduction Act of 1995.

DATES: Please submit comments by August 20, 2024.

ADDRESSES: You may submit comments identified by DOT Docket ID Number 0045 by any of the following methods:

Website: For access to the docket to read background documents or comments received go to the Federal eRulemaking Portal: Go to http://www.regulations.gov.

Follow the online instructions for submitting comments.

Fax: 1-202-493-2251.

Mail: Docket Management Facility, U.S. Department of Transportation, West Building Ground Floor, Room W12-140, 1200 New Jersey Avenue SE, Washington, DC 20590-0001.

Hand Delivery or Courier: U.S. Department of Transportation, West Building Ground Floor, Room W12-140, 1200 New Jersey Avenue SE, Washington, DC 20590, between 9 a.m. and 5 p.m. ET, Monday through Friday, except Federal holidays.

FOR FURTHER INFORMATION CONTACT: Patricia Sergeson, (202) 493-3166, Office Corporate Research, Technology and Innovation Management, Federal Highway Administration, Department of Transportation, 6300 Georgetown Pike, McLean VA 22101, Office hours are from 7 a.m. to 4 p.m., Monday through Friday, except Federal holidays.

SUPPLEMENTARY INFORMATION:

Title: Transportation Pooled Fund Excellence Award.

Background: FHWA is partnering with the American Association of State Highway and Transportation Officials (AASHTO) Research Advisory Committee (RAC) to further promote research, innovation, and excellence through a new TPF Program Excellence Award.

For more than 45 years, the FHWA's TPF Program has enabled public and private entities to collaboratively conduct cutting-edge transportation research. Through the TPF Program, participants are able to pool funds and expertise to develop innovative solutions at a lower cost while extending the reach and impact of their research.

The TPF Excellence Award will recognize outstanding TPF studies that have made significant advancements in national research efforts in the areas of safety, economic growth, equity, and/or transformative climate solutions. The future award will highlight the importance of meaningful collaboration and partnership in transportation research. Administered through a partnership between FHWA and the AASHTO RAC, the biennial TPF Excellence Award will recognize one FHWA-led TPF study and one State Department of Transportation (DOT)-led study. Nominations would be received between February 1 and May 1 every 2 yr. Nomination forms would be sent to FHWA Division Offices and State DOTs to solicit nominees.

Award: Any participant in the TPF program can nominate a TPF study that is completed and has posted a final report by June 30 of the year submitted. The nominator is responsible for completing the nomination form that summarizes the outstanding accomplishments of the entry. FHWA will use the collected information to evaluate, showcase, and enhance the public's knowledge of research and innovation conducted through these TPF projects. Nominations will be reviewed by an independent panel of judges from various backgrounds. The awards will be given every 2 yr. The winners will be presented awards at the completion of the process.

Respondents: Any participant in the Transportation Pooled Fund (TPF) program can submit a nomination of a TPF study for the TPF Excellence Award, including staff from the 50 States, the District of Columbia, and Puerto Rico.

Frequency: The information will be collected biennially.

Estimated Average Burden per Response: 5 hours per respondent per application.

Estimated Total Annual Burden Hours: It is expected that the respondents will complete approximately 20 applications for an estimated total of 100 annual burden hours.

Public Comments Invited: You are asked to comment on any aspect of this information collection, including: (1) Whether the proposed collection is necessary for the FHWA's performance; (2) the accuracy of the estimated burdens; (3) ways for the FHWA to enhance the quality, usefulness, and clarity of the collected information; and (4) ways that the burden could be minimized, including the use of electronic technology, without reducing the quality of the collected information. The agency will summarize and/or include your comments in the request for OMB's clearance of this information collection.

Authority: The Paperwork Reduction Act of 1995; 44 U.S.C. chapter 35, as amended; and 49 CFR 1.48.

Issued on: June 14, 2024.
Jazmyne Lewis,
Information Collection Officer.

[FR Doc. 2024-13531 Filed 6-20-24; 8:45 am]

BILLING CODE 4910-22-P